DEPARTMENT OF HEALTH AND HUMAN SERVICES

Centers for Disease Control and Prevention

Disease, Disability and Injury Prevention and Control Special Emphasis Panel: Controlling Asthma in American Cities Project (CAACP), Program Announcement 01117

In accordance with section 10(a)(2) of the Federal Advisory Committee Act (Pub. L. 92-463), the Centers for Disease Control and Prevention (CDC) announces the following meeting.

Name: Disease, Disability and Injury Prevention and Control Special Emphasis Panel: Controlling Asthma in American Cities Project (CAACP), Program Announcement 01117.

Times and Dates: 9 a.m.-9:45 a.m., Sep 5, 2001 (Open); 10 a.m.-5 p.m., Sep 5, 2001 (Closed); 9 a.m.-5 p.m., Sep 6, 2001 (Closed).

Place: Crowne Plaza Airport, 1325 Virginia Avenue, Atlanta, Georgia 30344.

Status: Portions of the meeting will be closed to the public in accordance with provisions set forth in section 552b(c)(4) and (6), Title 5 U.S.C., and the Determination of the Deputy Director for Program Management, CDC, pursuant to Pub. L. 92-463.

Matters To Be Discussed: The meeting will include the review, discussion, and evaluation of applications received in response to PA# 01117.

Contact Person for More Information: Michael Friedman, MD, Centers for Disease Control and Prevention, National Center for Environmental Health, 1600 Clifton Road, MS E-17, Atlanta, Georgia 30333, (404) 498-1028, E-mail: MFF7@cdc.gov.

The Director, Management Analysis and Services Office, has been delegated the authority to sign Federal Register notices pertaining to announcements of meetings and other committee management activities, for the both the Centers for Disease Control and Prevention and the Agency for Toxic Substances and Disease Registry.

Dated: August 13, 2001.
John C. Burckhardt,
Acting Director, Management Analysis and Services Office, Centers for Disease Control and Prevention.

[FR Doc. 01-20873 Filed 8-17-01; 8:45 am]

BILLING CODE 4163-18-P